FEDERAL COMMUNICATIONS COMMISSION

47 CFR Parts 0, 1, 13, 80, and 87

[WT Docket No. 10-177; FCC 10-154]

Commercial Radio Operators Rules

AGENCY: Federal Communications Commission.

ACTION: Proposed rule.

SUMMARY: This document proposes to amend our rules concerning commercial radio operator licenses for maritime and aviation radio stations who perform certain functions performed within the commercial radio operators service, to determine which rules can be clarified, streamlined, or eliminated.

DATES: Submit comments on or before November 29, 2010 and reply comments are due December 13, 2010.

ADDRESSES: You may submit comments, identified by WT Docket No. 10-177; FCC 10-154, by any of the following methods:

• Federal eRulemaking Portal: http://www.regulations.gov. Follow the instructions for submitting comments.

• Federal Communications Commission's Web Site: http://www.fcc.gov/cgb/ecfs/. Follow the instructions for submitting comments.

• People with Disabilities: Contact the FCC to request reasonable accommodations (accessible format documents, sign language interpreters, CART, etc.) by e-mail: FCC504@fcc.gov or phone 202-418-0530 or TTY: 202-418-0432.

For detailed instructions for submitting comments and additional information on the rulemaking process, see the SUPPLEMENTARY INFORMATION section of this document.

FOR FURTHER INFORMATION CONTACT: Stana Kimball, Mobility Division, Wireless Telecommunications Bureau, (202) 418-1306, TTY (202) 418-7233.

SUPPLEMENTARY INFORMATION: This is a summary of the Commission's Notice of Proposed Rulemaking (NPRM), WT Docket No. 10-177, FCC 10-154, adopted August 31, 2010, and released September 8, 2010. The full text of this document is available for inspection and copying during normal business hours in the FCC Reference Center, 445 12th Street, SW., Room CY-A257, Washington, DC 20554, or by downloading the text from the Commission's Web site at http://www.fcc.gov/Daily_Releases/Daily_Digest/2010/dd100909.html. The complete text also may be purchased from the Commission's duplicating contractor, Best Copy and Printing, Inc., Portals II, 445 12th Street, Suite CY-B402, Washington, DC 20554. Alternative formats are available for people with disabilities (Braille, large print, electronic files, audio format), by sending an e-mail to FCC504@fcc.gov or calling the Consumer and Government Affairs Bureau at (202) 418-0530 (voice), (202) 418-0432 (TTY).

1. The Commission initiated this proceeding to amend the Commercial Radio Operators rules, and related rules in parts 0, 1, 80, and 87 regarding certain functions performed by licensed commercial radio operators (COLEMs). Specifically, the Commission proposed in the NPRM to amend the commercial radio operator rules to: (1) Cease granting new First and Third Class Radiotelegraph Operator's Certificates, and seek comment on extending the current five-year license for radiotelegraph operator certificates to ten years or the lifetime of the holder; (2) eliminate prohibitions against holding two licenses at the same time, and restrictive endorsements; and (3) make the COLEMs responsible for maintaining the question pools for commercial radio operator examinations, stop requiring them to submit examination-related records on a regular basis, and make additional administrative changes relating to the examinations such as recordkeeping, electronic filing, and submission of records to the Commission. In the NPRM, the Commission also seeks comment on whether and how to harmonize the part 80 equipment testing and logging requirements, and proposes other administrative and editorial amendments.

I. Procedural Matters

A. Ex Parte Rules—Permit-but-Disclose Proceeding

2. This is a permit-but-disclose notice and comment rulemaking proceeding. Ex parte presentations are permitted, except during the Sunshine Agenda period, provided they are disclosed as provided in the Commission's rules.

B. Comment Dates

3. Pursuant to §§ 1.415 and 1.419 of the Commission's rules, interested parties may file comments on or before November 29, 2010, and reply comments are due December 13, 2010.

4. Commenters may file comments electronically using the Commission's Electronic Comment Filing System (ECFS), the Federal Government's eRulemaking Portal, or by filing paper copies. Commenters filing through the ECFS can be sent as an electronic file via the Internet to http://www.fcc.gov/e-file/ecfs.html. If multiple docket or rulemaking numbers appear in the caption of this proceeding, filers must transmit one electronic copy for each docket or rulemaking number referenced in the caption. In completing the transmittal screen, commenters should include their full name, U.S. Postal Service mailing address, and the applicable docket or rulemaking number. Commenters may also submit an electronic comment by Internet e-mail. To get filing instructions for e-mail comments, commenters should send an e-mail to ecfs@fcc.gov, and should include the following words in the body of the message, “get form.” Commenters will receive a sample form and directions in reply. Commenters filing through the Federal eRulemaking Portal http://www.regulations.gov, should follow the instructions provided on the Web site for submitting comments.

5. Commenters who chose to file paper comments must file an original and four copies of each comment. If more than one docket or rulemaking number appears in the caption of this proceeding, filers must submit two additional copies for each additional docket or rulemaking number. All filings must be sent to the Commission's Secretary, Office of the Secretary, Federal Communications Commission, 445 12th Street, SW., Room TW-A325, Washington, DC 20554.

6. Filings can be sent by hand or messenger delivery, by commercial overnight courier, or by first-class or overnight U.S. Postal Service mail. All filings must be addressed to the Commission's Secretary, Office of the Secretary, Federal Communications Commission, as follows: All hand-delivered paper filings for the Commission's Secretary must be delivered to FCC Headquarters at 445 12th St., SW., Room TW-A325, Washington, DC 20554. All hand deliveries must be held together with rubber bands or fasteners. Envelopes must be disposed of before entering the building. The filing hours at this location are 8 a.m. to 7 p.m. Commercial overnight mail (other than U.S. Postal Service Express Mail and Priority Mail) must be sent to 9300 East Hampton Drive, Capitol Heights, MD 20743. U.S. Postal Service first-class mail, Express Mail, and Priority Mail should be addressed to 445 12th Street, SW., Washington, DC 20554.

C. Paperwork Reduction Act

7. This document contains proposed modified information collection requirements. The Commission, as part of its continuing effort to reduce paperwork burdens, invites the general public and the Office of Management and Budget (OMB) to comment on the information collection requirements contained in this document, as required by the Paperwork Reduction Act of 1995, Public Law 104-13. In addition, pursuant to the Small Business Paperwork Relief Act of 2002, Public Law 107-198, see 44 U.S.C. 3506(c)(4), we seek specific comment on how we might further reduce the “information collection burden for small business concerns with fewer than 25 employees.”

II. Initial Regulatory Flexibility Analysis

8. As required by the Regulatory Flexibility Act (RFA), the Commission has prepared this Initial Regulatory Flexibility Analysis (IRFA) of the possible significant economic impact on small entities by the policies and rules proposed in the NPRM in this proceeding. Written public comments are requested on this IRFA. Comments must be identified as responses to the IRFA and must be filed by the deadlines for comments as provided in paragraph 28 in the NPRM. The Commission will send a copy of the NPRM, including the IRFA, to the Chief Counsel for Advocacy of the U.S. Small Business Administration. In addition, the NPRM and IRFA (or summaries thereof) will be published in the Federal Register.

Need for, and Objectives of, the Proposed Rules

3. We believe it appropriate to review our regulations in relating commercial radio operators to determine which rules can be clarified, streamlined or eliminated. In the NPRM, we seek comment on miscellaneous amendments that are intended to clarify part 13 rules, including the elimination of rules that refer to outdated services, equipment, and technology. In addition, the NPRM seeks comment on proposed editorial changes to rules contained in parts 0, 1, 80, and 87 that relate to commercial radio operator services. We also solicit comment on any other changes, corrections, or clarifications of the rules governing commercial radio operators that commenters believe are needed.

Legal Basis for Proposed Rules

4. The proposed action is authorized under sections 4(i), 303(r), and 403 of the Communications Act of 1934, as amended, 47 U.S.C. 154(i), 303(r), and 403.

Description and Estimate of the Number of Small Entities to Which the Proposed Rules Will Apply

5. The RFA directs agencies to provide a description of and, where feasible, an estimate of the number of small entities that may be affected by the rules adopted. The RFA generally defines the term “small entity” as having the same meaning as the terms “small business,” “small organization,” and “small governmental jurisdiction.” In addition, the term “small business” has the same meaning as the term “small business concern” under the Small Business Act. A small business concern is one which: (1) Is independently owned and operated; (2) is not dominant in its field of operation; and (3) satisfies any additional criteria established by the Small Business Administration (SBA).

6. Commercial radio licenses are issued only to individuals. Individuals are not “small entities” under the RFA.

7. Individual licensees are tested by commercial operator license examination managers (COLEMs). The Commission has not developed a definition for a small business or small organization that is applicable for COLEMs. The RFA defines the term “small organization” as meaning “any not-for-profit enterprise which is independently owned and operated and is not dominant in its field * * *.” All of the COLEM organizations would appear to meet the RFA definition for small organizations.

Description of Projected Reporting, Recordkeeping, and Other Compliance Requirements

8. There are no projected reporting, recordkeeping or other compliance requirements.

Steps Taken To Minimize Significant Economic Impact on Small Entities, and Significant Alternatives Considered

9. The RFA requires an agency to describe any significant alternatives that it has considered in reaching its proposed approach, which may include the following four alternatives: (1) The establishment of differing compliance or reporting requirements or timetables that take into account the resources available to small entities; (2) the clarification, consolidation, or simplification of compliance or reporting requirements under the rule for small entities; (3) the use of performance, rather than design standards; and (4) an exemption from coverage of the rule, or any part thereof, for small entities.

10. We believe the changes proposed in the NPRM will promote flexibility and more efficient use of the spectrum, without creating administrative burdens on the Commission, COLEMs, or individual licensees. Many of the proposed changes constitute clarification of existing requirements or elimination of reporting requirements and other rules that are outdated. In this NPRM, we seek comment on our proposals to modify the rules. Among others, we seek comment on our proposal to require COLEMs to maintain the pool of questions for commercial radio operator license examinations. We believe that this would reduce administrative burden on the Commission and speed up the question pool revision process, without overly burdening COLEMs which already cooperate in creating new question pools. To codify the current business practice of the majority of COLEMs, we seek comment on our proposal to require COLEMs to file applications on behalf of individual applicants electronically. We believe that this too would reduce administrative burden on the Commission, without burdening COLEMs.

Federal Rules That May Duplicate, Overlap, or Conflict With the Proposed Rules

11. None.

III. Ordering Clauses

12. The Commission's Consumer and Governmental Affairs Bureau, Reference Information Center, shall send a copy of the NPRM, including the Initial Regulatory Flexibility Certification, to the Chief Counsel for Advocacy of the Small Business Administration.

List of Subjects

47 CFR Part 0

Organization and functions (Government agencies).

47 CFR Part 1

Administrative practice and procedure, Communications common carriers, Telecommunications.

47 CFR Parts 13 and 80

Communications equipment, Radio.

47 CFR Part 87

Air transportation, Communications equipment, Radio.

Federal Communications Commission.
Marlene H. Dortch,
Secretary.

Proposed Rule Changes

For the reasons discussed in the preamble, the Federal Communications Commission proposes to amend 47 CFR parts 0, 1, 13, 80, and 87 as follows:

PART 0—COMMISSION ORGANIZATION

1. The authority citation for part 0 continues to read as follows:

Authority: Secs. 5, 48 Stat. 1068, as amended; 47 U.S.C. 155, 225, unless otherwise noted.

2. Section 0.483 is amended by revising paragraph (b) to read as follows:

§ 0.483 Applications for amateur or commercial radio operator licenses.

* * * * *

(b) Application filing procedures for commercial radio operator licenses are set forth in part 13 of this chapter.

§ 0.489 [Removed]

3. Remove § 0.489.

PART 1—PRACTICE AND PROCEDURE

4. The authority citation for part 1 continues to read as follows:

Authority: 15 U.S.C. 79 et seq.; 47 U.S.C. 151, 154(i), 154(j), 155, 157, 225, 303(r), and 309.

5. Section 1.85 is revised to read as follows:

§ 1.85 Suspension of operator licenses.

Whenever grounds exist for suspension of an operator license, as provided in section 303(m) of the Communications Act, the Chief of the Wireless Telecommunications Bureau, with respect to amateur and commercial radio operator licenses, may issue an order suspending the operator license. No order of suspension of any operator's license shall take effect until 15 days' notice in writing of the cause for the proposed suspension has been given to the operator licensee, who may make written application to the Commission at any time within the said 15 days for a hearing upon such order. The notice to the operator licensee shall not be effective until actually received by him, and from that time he shall have 15 days in which to mail the said application. In the event that physical conditions prevent mailing of the application before the expiration of the 15-day period, the application shall then be mailed as soon as possible thereafter, accompanied by a satisfactory explanation of the delay. Upon receipt by the Commission of such application for hearing, said order of suspension shall be designated for hearing by the Chief, Wireless Telecommunications Bureau and said suspension shall be held in abeyance until the conclusion of the hearing. Upon the conclusion of said hearing, the Commission may affirm, modify, or revoke said order of suspension. If the license is ordered suspended, the operator shall send his operator license to the Mobility Division, Wireless Telecommunications Bureau, in Washington, DC, on or before the effective date of the order, or, if the effective date has passed at the time notice is received, the license shall be sent to the Commission forthwith.

PART 13—COMMERCIAL RADIO OPERATORS

6. The authority citation for part 13 continues to read as follows:

Authority: Secs. 4, 303, 48 Stat. 1066, 1082 as amended; 47 U.S.C. 154, 303.

7. Section 13.7 is amended by revising paragraphs (b)(1) through (b)(3), and paragraph (c) to read as follows:

§ 13.7 Classification of operator licenses and endorsements.

* * * * *

(b) * * *

(1) First Class Radiotelegraph Operator's Certificate. Beginning [date reserved], no applications for new First Class Radiotelegraph Operator's Certificates will be accepted for filing.

(2) Radiotelegraph Operator's Certificate (formerly Second Class Radiotelegraph Operator's Certificate).

(3) Third Class Radiotelegraph Operator's Certificate (radiotelegraph operator's special certificate). Beginning [date reserved], no applications for new Third Class Radiotelegraph Operator's Certificates will be accepted for filing.

* * * * *

(c) There are three license endorsements affixed by the FCC to provide special authorizations or restrictions. Endorsements may be affixed to the license(s) indicated in parentheses.

(1) Ship Radar Endorsement (Radiotelegraph Operator Certificate, First and Second Class Radiotelegraph Operator's Certificates, General Radiotelephone Operator License, GMDSS Radio Maintainer's License).

(2) Six Months Service Endorsement (Radiotelegraph Operator Certificate, First and Second Class Radiotelegraph Operator's Certificates).

(3) Restrictive endorsements relating to physical disability, English language or literacy waivers, or other matters (all licenses).

* * * * *

8. Section 13.8 is amended by revising paragraphs (a) and (b) to read as follows:

§ 13.8 Authority conveyed.

* * * * *

(a) First Class Radiotelegraph Operator's Certificate conveys all of the operating authority of the Radiotelegraph Operator's Certificate, the Second Class Radiotelegraph Operator's Certificate, the Third Class Radiotelegraph Operator's Certificate, the Restricted Radiotelephone Operator Permit, and the Marine Radio Operator Permit.

(b) Radiotelegraph Operator's Certificate is equivalent to Second Class Radiotelegraph Operator's Certificate. Second Class Radiotelegraph Operator's Certificate conveys all of the operating authority of the Third Class Radiotelegraph Operator's Certificate, the Restricted Radiotelephone Operator Permit, and the Marine Radio Operator Permit.

* * * * *

9. Section 13.9 is amended by revising paragraphs (b), (c), and (f)(4) to read as follows:

§ 13.9 Eligibility and application for new license or endorsement.

* * * * *

(b) Each application for a new General Radiotelephone Operator License, Marine Radio Operator Permit, Radiotelegraph Operator's Certificate, Ship Radar Endorsement, Six Months Service Endorsement, GMDSS Radio Operator's License, Restricted GMDSS Radio Operator's License, GMDSS Radio Maintainer's License, GMDSS Radio Operator/Maintainer License, Restricted Radiotelephone Operator Permit, or Restricted Radiotelephone Operator Permit-Limited Use must be filed on FCC Form 605 in accordance with § 1.913 of this chapter.

(c) Each application for a new General Radiotelephone Operator License, Marine Radio Operator Permit, Radiotelegraph Operator's Certificate, Ship Radar Endorsement, GMDSS Radio Operator's License, Restricted GMDSS Radio Operator's License, GMDSS Radio Maintainer's License, or GMDSS Radio Operator/Maintainer License must be accompanied by the required fee, if any, and submitted in accordance with § 1.913 of this chapter. The application must include an original PPC(s) from a COLEM(s) showing that the applicant has passed the necessary examination element(s) within the previous 365 days when the applicant files the application. If a COLEM files the application electronically on behalf of the applicant, an original PPC(s) is not required. However, the COLEM must keep the PPC(s) on file for a period of 1 year.

* * * * *

(f) * * *

(4) The applicant held a FCC-issued Radiotelegraph Operator's Certificate, First Class Radiotelegraph Operator's Certificate, or Second Class Radiotelegraph Operator's Certificate during this entire six month qualifying period; and

* * * * *

10. Section 13.10 is revised to read as follows:

§ 13.10 Licensee address.

In accordance with § 1.923 of this chapter all applicants (except applicants for a Restricted Radiotelephone Operator Permit and applicants for a Restricted Radiotelephone Operator Permit—Limited Use) must specify an address where the applicant can receive mail delivery by the United States Postal Service. Suspension of the operator license or permit may result when correspondence from the FCC is returned as undeliverable because the applicant failed to provide the correct mailing address.

11. Section 13.11 is revised to read as follows:

§ 13.11 Holding more than one commercial radio operator license.

Each person who is not legally eligible for employment in the United States, and certain other persons who were issued permits prior to September 13, 1982, may hold two Restricted Radiotelephone Operator Permits simultaneously when each permit authorizes the operation of a particular station or class of stations.

12. Section 13.13 is amended by revising paragraphs (a), (b), and (d) to read as follows:

§ 13.13 Application for a renewed or modified license.

(a) Each application to renew a Radiotelegraph Operator's Certificate, First Class Radiotelegraph Operator's Certificate, Second Class Radiotelegraph Operator's Certificate, or Third Class Radiotelegraph Operator's Certificate must be made on FCC Form 605. The application must be accompanied by the appropriate fee and submitted in accordance with § 1.913 of this chapter. (Beginning [date reserved]; First and Second Class Radiotelegraph Operator's Certificates will be renewed as Radiotelegraph Operator's Certificates.)

(b) If a license expires, application for renewal may be made during a grace period of five years after the expiration date without having to retake the required examinations. The application must be accompanied by the required fee and submitted in accordance with § 1.913 of this chapter. During the grace period, the expired license is not valid. A license renewed during the grace period will be effective as of the date of the renewal. Licensees who fail to renew their licenses within the grace period must apply for a new license and take the required examination(s). (Beginning [date reserved]; no applications for new First Class Radiotelegraph Operator's Certificates or Third Class Radiotelegraph Operator's Certificates will be accepted for filing.)

* * * * *

(d) Provided that a person's commercial radio operator license was not revoked, or suspended, and is not the subject of an ongoing suspension proceeding, a person holding a General Radiotelephone Operator License, Marine Radio Operator Permit, Radiotelegraph Operator's Certificate, First Class Radiotelegraph Operator's Certificate, Second Class Radiotelegraph Operator's Certificate, Third Class Radiotelegraph Operator's Certificate, GMDSS Radio Operator's License, GMDSS Radio Maintainer's License, or GMDSS Radio Operator/Maintainer License, who has an application for another commercial radio operator license which has not yet been acted upon pending at the FCC and who holds a PPC(s) indicating that he or she passed the necessary examination(s) within the previous 365 days, is authorized to exercise the rights and privileges of the license for which the application is filed. This temporary conditional operating authority is valid for a period of 90 days from the date the application is received. This temporary conditional operating authority does not relieve the licensee of the obligation to comply with the certification requirements of the Standards of Training, Certification and Watchkeeping (STCW) Convention. The FCC, in its discretion, may cancel this temporary conditional operating authority without a hearing.

* * * * *

13. Section 13.15 is amended by revising paragraph (a) to read as follows:

§ 13.15 License term.

(a) Radiotelegraph Operator's Certificates, First Class Radiotelegraph Operator's Certificates, Second Class Radiotelegraph Operator's Certificates, and Third Class Radiotelegraph Operator's Certificates are normally valid for a term of five years from the date of issuance.

* * * * *

14. Section 13.17 is amended by revising paragraphs (b) and (c), and by removing paragraph (d) and redesignating paragraph (e) as paragraph (d) to read as follows:

§ 13.17 Replacement license.

* * * * *

(b) Each application for a replacement General Radiotelephone Operator License, Marine Radio Operator Permit, Radiotelegraph Operator Certificate, First Class Radiotelegraph Operator's Certificate, Second Class Radiotelegraph Operator's Certificate, Third Class Radiotelegraph Operator's Certificate, GMDSS Radio Operator's License, Restricted GMDSS Radio Operator's License, GMDSS Radio Maintainer's License, or GMDSS Radio Operator/Maintainer License must be made on FCC Form 605 and must include a written explanation as to the circumstances involved in the loss, mutilation, or destruction of the original document.

(c) Each application for a replacement Restricted Radiotelephone Operator Permit or Restricted Radiotelephone Operator Permit-Limited Use must be on FCC Form 605.

* * * * *

15. Section 13.201 is amended by revising paragraphs (b) (1) through (b)(7) to read as follows:

§ 13.201 Qualifying for a commercial operator license or endorsement.

* * * * *

(b) * * *

(1) Radiotelegraph Operator's Certificate.

(i) Telegraphy Elements 1 and 2;

(ii) Written Elements 1, 5, and 6.

(2) General Radiotelephone Operator License: Written Elements 1 and 3.

(3) Marine Radio Operator Permit: Written Element 1.

(4) GMDSS Radio Operator's License: Written Elements 1 and 7, or a Proof of Passing Certificate (PPC) issued by the United States Coast Guard or its designee representing a certificate of competency from a Coast Guard-approved training course for a GMDSS endorsement.

(5) Restricted GMDSS Radio Operator License: Written Elements 1 and 7R, or a Proof of Passing Certificate (PPC) issued by the United States Coast Guard or its designee representing a certificate of competency from a Coast Guard-approved training course for a GMDSS endorsement.

(6) GMDSS Radio Maintainer's License: Written Elements 1, 3, and 9.

(7) Ship Radar Endorsement: Written Element 8.

* * * * *

16. Section 13.203 is amended by revising paragraphs (a)(1) and (a)(2), and by removing paragraphs (b)(3) and (b)(4) to read as follows:

§ 13.203 Examination elements.

(a) * * *

(1) Element 1: Basic radio law and operating practice with which every maritime radio operator should be familiar. Questions concerning provisions of laws, treaties, regulations, and operating procedures and practices generally followed or required in communicating by means of radiotelephone stations.

(2) Element 3: General radiotelephone. Questions concerning electronic fundamentals and techniques required to adjust, repair, and maintain radio transmitters and receivers at stations licensed by the FCC in the aviation and maritime radio services.

* * * * *

17. Section 13.209 is amended by revising paragraph (d), removing paragraph (e), redesignating paragraphs (f) through (j) as paragraphs (e) through (i), and by revising newly redesignated paragraph (h) to read as follows:

§ 13.209 Examination procedures.

* * * * *

(d) Passing a telegraphy examination. Passing a telegraphy receiving examination is adequate proof of an examinee's ability to both send and receive telegraphy. The COLEM, however, may also include a sending segment in a telegraphy examination.

(1) To pass a receiving telegraphy examination, an examinee is required to receive correctly the message by ear, for a period of 1 minute without error at the rate of speed specified in § 13.203(b).

(2) To pass a sending telegraphy examination, an examinee is required to send correctly for a period of one minute at the rate of speed specified in § 13.203(b).

* * * * *

(h) No applicant who is eligible to apply for any commercial radio operator license shall, by reason of any physical disability, be denied the privilege of applying and being permitted to attempt to prove his or her qualifications (by examination if examination is required) for such commercial radio operator license in accordance with procedures established by the COLEM.

* * * * *

18. Section 13.211 is amended by revising paragraph (e) to read as follows:

§ 13.211 Commercial radio operator license examination.

* * * * *

(e) Within 3 business days of completion of the examination element(s), the COLEM must provide the results of the examination to the examinee and the COLEM must issue a PPC to an examinee who scores a passing grade on an examination element.

* * * * *

19. Section 13.213 is amended by adding paragraph (g) to read as follows:

§ 13.213 COLEM qualifications.

* * * * *

(g) Submit applications that it files on behalf of applicants electronically via the Commission's Universal Licensing System.

20. Section 13.215 is revised to read as follows:

§ 13.215 Question pools.

All COLEMs must cooperate in maintaining one question pool for each written examination element. Each question pool must contain at least 5 times the number of questions required for a single examination. Each question pool must be published and made available to the public prior to its use for making a question set.

PART 80—STATIONS IN THE MARITIME SERVICES

21. The authority citation for part 80 continues to read as follows:

Authority: Secs. 4, 303, 307(e), 309, and 332, 48 Stat. 1066, 1082, as amended; 47 U.S.C. 154, 303, 307(e), 309, and 332, unless otherwise noted. Interpret or apply 48 Stat. 1064-1068, 1081-1105, as amended; 47 U.S.C. 151-155, 301-609; 3 UST 3450, 3 UST 4726, 12 UST 2377.

22. Section 80.59 is amended by revising the note and the table in paragraph (a)(1) and paragraph (b) to read as follows:

§ 80.59 Compulsory ship inspections.

(a) * * *

(1) * * *

Note to paragraph (a)(1): Nothing in this section prohibits Commission inspectors from inspecting ships. The mandatory inspection of U.S. vessels must be conducted by an FCC-licensed technician holding an FCC General Radiotelephone Operator License, GMDSS Radio Maintainer's License, Radiotelegraph Operator's Certificate, Second Class Radiotelegraph Operator's Certificate, or First Class Radiotelegraph Operator's Certificate in accordance with the following table:

Category of vessel | Minimum class of FCC license required by private sector technician to conduct inspection—only one license required: General radiotele-phone operator license | Minimum class of FCC license required by private sector technician to conduct inspection—only one license required: GMDSS radio maintainer's license | Minimum class of FCC license required by private sector technician to conduct inspection—only one license required: Radiotelegraph operator's certificate (formerly second class radiotelegraph operator's certificate) | Minimum class of FCC license required by private sector technician to conduct inspection—only one license required: First class radiotelegraph operator's certificate
Radiotelephone equipped vessels subject to 47 CFR part 80, subpart R or S | √ | √ | √ | √
GMDSS equipped vessels subject to 47 CFR part 80, subpart W |  | √ |  |

* * * * *

(b) Inspection and certification of a ship subject to the Great Lakes Agreement. The FCC will not inspect Great Lakes Agreement vessels. An inspection and certification of a ship subject to the Great Lakes Agreement must be made by a technician holding one of the following: an FCC General Radiotelephone Operator License, a GMDSS Radio Maintainer's License, a Radiotelegraph Operator's Certificate, a Second Class Radiotelegraph Operator's Certificate, or a First Class Radiotelegraph Operator's Certificate. The certification required by § 80.953 must be entered into the ship's log. The technician conducting the inspection and providing the certification must not be the vessel's owner, operator, master, or an employee of any of them. Additionally, the vessel owner, operator, or ship's master must certify that the inspection was satisfactory. There are no FCC prior notice requirements for any inspection pursuant to § 80.59(b).

* * * * *

23. Section 80.151 is amended by adding paragraphs (b)(9) through (b)(11) and by revising paragraphs (c)(1) through (c)(3) to read as follows:

§ 80.151 Classification of operator licenses and endorsements.

* * * * *

(b) * * *

(9) T-3. Third Class Radiotelegraph Operator's Certificate (radiotelegraph operator's special certificate). Beginning [date reserved], no applications for new Third Class Radiotelegraph Operator's Certificates will be accepted for filing.

(10) T. Radiotelegraph Operator's Certificate (formerly T-2, Second Class Radiotelegraph Operator's Certificate).

(11) T-1. First Class Radiotelegraph Operator's Certificate. Beginning [date reserved], no applications for new First Class Radiotelegraph Operator's Certificates will be accepted for filing.

(c) * * *

(1) Ship Radar endorsement (Radiotelegraph Operator's Certificate, First Class Radiotelegraph Operator's Certificate, Second Class Radiotelegraph Operator's Certificate, General Radiotelephone Operator License).

(2) Six Months Service endorsement (Radiotelegraph Operator's Certificate, First Class Radiotelegraph Operator's Certificate, and Second Class Radiotelegraph Operator's Certificate).

(3) Restrictive endorsements; relating to physical disabilities, English language or literacy waivers, or other matters (all licenses).

24. Section 80.157 is revised to read as follows:

§ 80.157 Radio officer defined.

A radio officer means a person holding a Radiotelegraph Operator's Certificate, First Class Radiotelegraph Operator's Certificate, or Second Class Radiotelegraph Operator's Certificate issued by the Commission, who is employed to operate a ship radio station in compliance with Part II of Title II of the Communications Act. Such a person is also required to be licensed as a radio officer by the U.S. Coast Guard when employed to operate a ship radiotelegraph station.

25. Section 80.159 is amended by revising paragraphs (a) and (b) to read as follows:

§ 80.159 Operator requirements of Title III of the Communications Act and the Safety Convention.

(a) Each telegraphy passenger ship equipped with a radiotelegraph station in accordance with Part II of Title III of the Communications Act must carry two radio officers holding a Radiotelegraph Operator's Certificate, First Class Radiotelegraph Operator's Certificate, or Second Class Radiotelegraph Operator's Certificate.

(b) Each cargo ship equipped with a radiotelegraph station in accordance with Part II of Title II of the Communications Act and which has a radiotelegraph auto alarm must carry a radio officer holding a Radiotelegraph Operator's Certificate, First Class Radiotelegraph Operator's Certificate, or Second Class Radiotelegraph Operator's Certificate who has had at least six months service as a radio officer on board U.S. ships. If the radiotelegraph station does not have an auto alarm, a second radio officer who holds a Radiotelegraph Operator's Certificate, First Class Radiotelegraph Operator's Certificate, or Second Class Radiotelegraph Operator's Certificate must be carried.

* * * * *

26. Section 80.169 is amended by revising paragraphs (a) and (b) to read as follows:

§ 80.169 Operators required to adjust transmitters or radar.

(a) All adjustments of radio transmitters in any radiotelephone station or coincident with the installation, servicing, or maintenance of such equipment which may affect the proper operation of the station, must be performed by or under the immediate supervision and responsibility of a person holding a Radiotelegraph Operator's Certificate, First Class Radiotelegraph Operator's Certificate, Second Class Radiotelegraph Operator's Certificate, or General Radiotelephone Operator License.

(b) Only persons holding a Radiotelegraph Operator's Certificate, First Class Radiotelegraph Operator's Certificate, or Second Class Radiotelegraph Operator's Certificate must perform such functions at radiotelegraph stations transmitting Morse code.

* * * * *

27. Section 80.203 is amended by revising paragraph (b)(3) introductory text to read as follows:

§ 80.203 Authorization of transmitters for licensing.

* * * * *

(b) * * *

(3) Except as provided in paragraph (b)(4) of this section, programming of authorized channels must be performed only by a person holding a Radiotelegraph Operator's Certificate, First Class Radiotelegraph Operator's Certificate, Second Class Radiotelegraph Operator's Certificate, or General Radiotelephone Operator License using any of the following procedures:

* * * * *

28. Section 80.409 is amended by revising paragraph (f)(1)(i)(E) to read as follows:

§ 80.409 Station logs.

* * * * *

(f) * * *

(1) * * *

(i) * * *

(E) The inspector's signed and dated certification that the vessel meets the requirements of the Communications Act and, if applicable, the Safety Convention and the Bridge-to-Bridge Act contained in subparts R, S, U, or W of this part and has successfully passed the inspection.

* * * * *

29. Section 80.953 is amended by revising paragraph (b) introductory text to read as follows:

§ 80.953 Inspection and certification.

* * * * *

(b) An inspection and certification of a ship subject to the Great Lakes Agreement must be made by a technician holding one of the following: A General Radiotelephone Operator License, a GMDSS Radio Maintainer's License, a Radiotelegraph Operator's Certificate, a Second Class Radiotelegraph Operator's Certificate, or a First Class Radiotelegraph Operator's Certificate. Additionally, the technician must not be the vessel's owner, operator, master, or an employee of any of them. The results of the inspection must be recorded in the ship's radiotelephone log and include:

* * * * *

30. Section 80.1005 is revised to read as follows:

§ 80.1005 Inspection of station.

The bridge-to-bridge radiotelephone station will be inspected on vessels subject to regular inspections pursuant to the requirements of Parts II and III of Title II of the Communications Act, the Safety Convention or the Great Lakes Agreement at the time of the regular inspection. If after such inspection, the Commission determines that the Bridge-to-Bridge Act, the rules of the Commission and the station license are met, an endorsement will be made on the appropriate document. The validity of the endorsement will run concurrently with the period of the regular inspection. Each vessel must carry a certificate with a valid endorsement while subject to the Bridge-to-Bridge Act. All other bridge-to-bridge stations will be inspected from time to time. An inspection of the bridge-to-bridge station on a Great Lakes Agreement vessel must normally be made at the same time as the Great Lakes Agreement inspection is conducted by a technician holding one of the following: A General Radiotelephone Operator License, a GMDSS Radio Maintainer's License, a Radiotelegraph Operator's Certificate, a Second Class Radiotelegraph Operator's Certificate, or a First Class Radiotelegraph Operator's Certificate. Additionally, the technician must not be the owner, operator, master, or an employee of any of them. Ships subject to the Bridge-to-Bridge Act may, in lieu of an endorsed certificate, certify compliance in the station log required by § 80.409(f).

PART 87—AVIATION SERVICES

31. The authority citation for part 87 continues to read as follows:

Authority: 47 U.S.C. 154, 303 and 307(e), unless otherwise noted.

32. Section 87.87 is amended by revising paragraphs (b)(1), (b)(2), and (b)(4) to read as follows:

§ 87.87 Classification of operator licenses and endorsements.

* * * * *

(b) * * *

(1) T-1 First Class Radiotelegraph Operator's Certificate. Starting thirty days after the date of publication in the Federal Register of a Report and Order in WT Docket No. 10-177, adopting this rule, no applications for new First Class Radiotelegraph Operator's Certificates will be accepted for filing.

(2) T Radiotelegraph Operator's Certificate (formerly T-2 Second Class Radiotelegraph Operator's Certificate).

* * * * *

(4) T-3 Third Class Radiotelegraph Operator's Certificate (radiotelegraph operator's special certificate). Starting thirty days after the date of publication in the Federal Register of a Report and Order in WT Docket No. 10-177, adopting this rule, no applications for new Third Class Radiotelegraph Operator's Certificates will be accepted for filing.

* * * * *

[FR Doc. 2010-26263 Filed 10-28-10; 8:45 am]

BILLING CODE 6712-01-P